NUCLEAR REGULATORY COMMISSION

[NRC-2014-0006]

Consolidated Guidance About Materials Licenses: Program-Specific Guidance About Licenses of Broad Scope

AGENCY: Nuclear Regulatory Commission.

ACTION: NUREG; issuance.

SUMMARY: The U.S. Nuclear Regulatory Commission (NRC) has issued Revision 1 to NUREG-1556, Volume 11, “Consolidated Guidance about Materials Licenses: Program-Specific Guidance about Licenses of Broad Scope,” which updates licensing guidance for broad scope licenses. This document has been revised to include information on updated regulatory requirements, safety culture, security of radioactive materials, protection of sensitive information, and changes in regulatory policies and practices. The document is intended for use by applicants, licensees, and the NRC staff.

DATES: NUREG-1556, Volume 11, Revision 1 is available April 5, 2017.

ADDRESSES: Please refer to Docket ID number NRC-2014-0006 when contacting the NRC about the availability of information regarding this document. You may obtain publicly-available information related to this document using any of the following methods:

• Federal Rulemaking Web site: Go to http://www.regulations.gov and search for Docket ID number NRC-2014-0006. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. NUREG-1556, Volume 11, Revision 1 is available in ADAMS under Accession No. ML17059D332.

• NRC's PDR: You may examine and purchase copies of public documents at the NRC's PDR, Room O1-F21, One White Flint North, 11555 Rockville Pike, Rockville, Maryland 20852.

FOR FURTHER INFORMATION CONTACT: Anthony McMurtray, Office of Nuclear Material Safety and Safeguards; U.S. Nuclear Regulatory Commission, Washington, DC 20555-0001; telephone: 301-415-2746; email: Anthony.McMurtray@nrc.gov.

SUPPLEMENTARY INFORMATION:

I. Discussion

The NRC issued a revision to NUREG-1556, Volume 11, to provide guidance to existing broad scope materials licensees and to applicants preparing an application for a broad scope materials license. This NUREG volume also provides the NRC staff with criteria for evaluating these license applications. The purpose of this notice is to notify the public that the NUREG-1556 volume listed in this document was issued as a Final Report.

II. Additional Information

The NRC published a notice of the availability of the Draft Report for Comment version of NUREG-1556, Volume 11, Revision 1 in the Federal Register on January 27, 2014 (79 FR 4360) for a 30-day public comment period. The public comment period closed on February 26, 2014. Public comments on NUREG-1556, Volume 11, Revision 1 and the NRC staff's responses to the public comments are available under ADAMS Accession No. ML15357A092.

III. Congressional Review Act

This NUREG volume is a rule as defined in the Congressional Review Act (5 U.S.C. 801-808). However, the Office of Management and Budget has not found this NUREG revision to be a major rule as defined in the Congressional Review Act.

Dated at Rockville, Maryland, this 27th day of March, 2017.
For the U.S. Nuclear Regulatory Commission.
Daniel S. Collins,
Director, Division of Material Safety, State, Tribal and Rulemaking Programs, Office of Nuclear Material Safety and Safeguards.

[FR Doc. 2017-06735 Filed 4-4-17; 8:45 am]

BILLING CODE 7590-01-P